DEPARTMENT OF HEALTH AND HUMAN SERVICES

Centers for Disease Control and Prevention

[30 Day-23-0215]

Agency Forms Undergoing Paperwork Reduction Act Review

In accordance with the Paperwork Reduction Act of 1995, the Centers for Disease Control and Prevention (CDC) has submitted the information collection request titled “Application Form and Related Forms for the Operation of the National Death Index (NDI)” to the Office of Management and Budget (OMB) for review and approval. CDC previously published a “Proposed Data Collection Submitted for Public Comment and Recommendations” notice on November 16, 2022 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Application Form and Related Forms for the Operation of the National Death Index (NDI) (OMB Control No. 0920-0215, Exp. 3/31/2023)—Revision—National Center for Health Statistics (NCHS), Centers for Disease Control and Prevention (CDC).

Background and Brief Description

Section 306 of the Public Health Service (PHS) Act (42 U.S.C.), as amended, authorizes that the Secretary of Health and Human Services (DHHS), acting through NCHS, shall collect statistics on the extent and nature of illness and disability of the population of the United States.

The National Death Index (NDI) is a database containing identifying death record information submitted annually to NCHS by all the jurisdiction (states and territories) vital statistics offices, beginning with deaths in 1979. Searches against the NDI file provide the jurisdictions and dates of death, and the death certificate numbers of deceased study subjects. Using the NDI Plus service, researchers have the option of also receiving cause of death information for deceased subjects, thus reducing the need to request copies of death certificates from the jurisdictions. The NDI Plus option currently provides the International Classification of Disease (ICD) codes for the underlying and multiple causes of death for the years 1979-2021. Health researchers must complete administrative forms in order to apply for NDI services and submit records of study subjects for computer matching against the NDI file.

A three-year revision request is submitted to continue the use of the two administrative forms (the application form and transmittal form) utilized in the operation of the National Death Index (NDI) program, along with worksheets used to calculate related fees. These forms are submitted by NDI users when applying for use of the NDI and when actually using the service. In addition, this request includes the electronic versions that replace the three paper documents, one of which will include a minor reduction in the number of data collection items.

The total estimated annual burden hours are 1,276. This represents an increase of 489 hours from 787, due primarily to the increase in applications, and transmittal forms. There is no cost to respondents except for their time.

Estimates of Annualized Burden Hours
Type of respondent | Form name | Number of respondents | Number of responses per respondent | Average burden per response (in hours)
Researcher | Application Form—Electronic | 282 | 1 | 150/60
Researcher | Transmittal Form—Paper/Electronic | 400 | 3 | 18/60
Researcher | Early Transmittal Form—Paper/Electronic | 100 | 3 | 18/60
Researcher | Fee Worksheet | 450 | 1 | 15/60
Researcher | Early Release Fee Worksheet | 100 | 1 | 5/60

Jeffrey M. Zirger,
Lead, Information Collection Review Office, Office of Scientific Integrity, Office of Science, Centers for Disease Control and Prevention.

[FR Doc. 2023-02421 Filed 2-3-23; 8:45 am]

BILLING CODE 4163-18-P